DEPARTMENT OF ENERGY

Federal Energy Regulatory Commission

Notice of Meeting

| Docket Nos.
Nevada Power Company | ER10-2475-006, EL15-22-000
Sierra Pacific Power Company | ER10-2474-006
PacifiCorp | ER10-3246-003
Pinyon Pines Wind I, LLC | ER13-520-002
Pinyon Pines Wind II, LLC | ER13-521-002
Solar Star California XIX, LLC | ER13-1441-002
Solar Star California XX, LLC | ER13-1442-002
Topaz Solar Farms LLC | ER12-1626-003
CalEnergy, LLC | ER13-1266-003
CE Leathers Company | ER13-1267-002
Del Ranch Company | ER13-1268-002
Elmore Company | ER13-1269-002
Fish Lake Power LLC | ER13-1270-002
Salton Sea Power Generation Company | ER13-1271-002
Salton Sea Power L.L.C | ER13-1272-002
Vulcan/BN Geothermal Power Company | ER13-1273-002
Yuma Cogeneration Associates | ER10-2605-006
MidAmerican Energy Company
Bishop Hill Energy II LLC
Cordova Energy Company LLC
Power Resources, Ltd
Saranac Power Partners, L.P
Agua Caliente Solar, LLC | ER12-21-013]

On Thursday, January 29, 2015, Commission staff will meet with Nevada Power Company and its affiliates (collectively, the Berkshire MBR Sellers) in Washington, DC. The purpose of the meeting is to discuss matters related to the Commission's order issued in the above-captioned proceedings, pursuant to section 206 of the Federal Power Act, 16 U.S.C. 824e (2012), instituting an investigation concerning the justness and reasonableness of the Berkshire MBR Sellers' market-based rate authorities in the PacifiCorp-East, PacifiCorp-West, Idaho Power Company, and NorthWestern balancing authority areas. Nevada Power Company, 149 FERC ¶ 61,219 (2014). The meeting will begin at 10 a.m. at the Federal Energy Regulatory Commission headquarters building located at 888 First Street NE., Washington, DC 20426. All interested parties are invited to observe the meeting in person or to listen to the meeting by telephone. For further information please contact Byron Corum at 202-502-6555.

FERC conferences are accessible under section 508 of the Rehabilitation Act of 1973. For accessibility accommodations please send an email to accessibility@ferc.gov or call toll free 1-866-208-3372 (voice) or 202-208-8659 (TTY), or send a FAX to 202-208-2106 with the required accommodations.

Dated: January 22, 2015.
Kimberly D. Bose,
Secretary.

[FR Doc. 2015-01734 Filed 1-29-15; 8:45 am]

BILLING CODE 6717-01-P